DEPARTMENT OF THE INTERIOR

Bureau of Indian Affairs

Energy Policy Act of 2005, Section 1813, Report to Congress

AGENCY: Bureau of Indian Affairs, Interior.

ACTION: Notice of publication of report to Congress.

SUMMARY: Section 1813 of the Energy Policy Act of 2005 (Pub. L. 109-58) requires the Department of the Interior and the Department of Energy (Departments) to jointly consult with stakeholders and conduct a study of issues related to energy rights-of-way (ROWs) on tribal lands. The Act further directs the Departments to submit a report to Congress on the findings of the study. The Report to Congress is available on the Section 1813 Web site (http://1813.anl.gov). This Web site will remain active until August 8, 2007.

FOR FURTHER INFORMATION CONTACT: Darryl Francois (DOI, Office of Indian Energy and Economic Development) at (202) 219-0740, or Kristen Ellis (DOE, Office of Congressional and Intergovernmental Affairs) at (202) 586-5810. Persons who use a telecommunications device for the deaf (TDD) may call the Federal Information Relay Service (FIRS) at 1-800-877-8339, to contact the above individuals during business hours. FIRS is available twenty-four hours a day, seven days a week.

SUPPLEMENTARY INFORMATION:

I. Background

Section 1813 of the Energy Policy Act of 2005 (Pub. L. 109-58) requires the Department of the Interior and the Department of Energy (Departments) to jointly conduct a study of issues regarding grants, expansions, and renewals of energy rights-of-way (ROWs) on tribal lands. Section 1813 also requires the Departments to consult with Indian tribes, the energy industry, appropriate governmental entities, and affected businesses and consumers in the course of the study. The Act further directs the Departments to submit a report to Congress on the findings of the study, including: (1) An analysis of historic rates of compensation paid for energy ROWs on tribal land; (2) Recommendations for appropriate standards and procedures for determining fair and appropriate compensation to Indian tribes for grants, expansions, and renewals of energy ROWs on tribal land; (3) An assessment of the tribal self-determination and sovereignty interests implicated by applications for the grant, expansion, or renewal of energy ROWs on tribal land; and (4) An analysis of relevant national energy transportation policies relating to grants, expansions, and renewals of energy ROWs on tribal land.

The Departments held a number of public meetings to seek input and feedback from Indian tribes, the energy industry, appropriate governmental entities, and affected businesses and consumers. In addition the Departments held a number of government to government consultations with Indian tribes. The Departments released two draft reports and accepted comment about the content of both draft reports. This final Report to Congress reflects the Departments' response to the considered and substantial comments received. The Report to Congress is available on the Section 1813 Web site (http://1813.anl.gov) until August 8, 2007.

Dated: May 11, 2007.
Carl J. Artman,
Assistant Secretary—Indian Affairs.

[FR Doc. E7-9431 Filed 5-15-07; 8:45 am]

BILLING CODE 4310-96-P